DEPARTMENT OF AGRICULTURE

Office of the Secretary

7 CFR Part 6

RIN 0551-AA59

Licensing for Certain Sugar-Containing Products Under Tariff-Rate Quota

AGENCY: Office of the Secretary, USDA.

ACTION: Proposed rule: Extension of comment period.

SUMMARY: The proposed rule, published in the Federal Register on March 17, 2000, (65 FR 14478-14484) provides for licensing of imports of sugar-containing products which enter under the tariff-rate quota (TRQ) provided for in Additional U.S. Note 8 to chapter 17 of the Harmonized Tariff Schedule of the United States (HTS). Public comments were requested by April 17, 2000. The Department is extending the public comment period to May 17, 2000.

DATES: The comment period has been extended and will expire on May 17, 2000. Comments should be received on or before this date to be assured of consideration.

ADDRESSES: Comments should be mailed or delivered to Diana Wanamaker, Import Policies and Programs Division, Foreign Agricultural Service, 1400 Independence Avenue SW, STOP 1021, U.S. Department of Agriculture, Washington, DC 20250-1021. Comments received may be inspected between 10:00 a.m. and 4:00 p.m. at room 5541-S, 1400 Independence Avenue SW, Washington, DC 20250-1021.

FOR FURTHER INFORMATION CONTACT: Diana Wanamaker at the address above, or telephone at 202-720-2916, or e-mail at Wanamaker@fas.usda.gov.

SUPPLEMENTARY INFORMATION: The proposed rule was published in the Federal Register on March 17, 2000 (65 FR 14478-14484) and public comments were requested on or before April 17, 2000, to be assured of consideration. In view of private sector and foreign government requests that the comment period be extended in order to more fully assess the proposed import licensing requirement and its effects on business operations, the Department has decided that a 30-day extension of the comment period to May 17, 2000 would be reasonable.

Signed at Washington, D.C. on April 13, 2000.
Timothy J. Galvin,
Administrator, Foreign Agricultural Service.

[FR Doc. 00-9728 Filed 4-17-00; 8:45 am]

BILLING CODE 3410-10-P